DEPARTMENT OF JUSTICE

Notice of Lodging of Consent Decree Under the Comprehensive Environmental Response, Compensation, and Liability Act

Notice is hereby given that on March 25, 2010, a proposed consent decree with the City of Ottawa, Illinois (“Consent Decree”) in United States vs. City of Ottawa, Civil Action No. 10-1887 was lodged with the United States District Court for the Northern District of Illinois.

In this action the United States sought injunctive relief and recovery of unreimbursed costs incurred for response activities undertaken in response to the release and threatened release of hazardous substances from facilities at the Ottawa Radiation Areas Superfund Site in Ottawa, Illinois. The Consent Decree provides for the City of Ottawa to pay $150,000, a figure determined in accordance with an ability to pay analysis, and also provide approximately $4.35 million in in-kind services, primarily through the provision of clean fill and top soil.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City of Ottawa, D.J. Ref. 90-11-3-06883/2.

The Consent Decree may be examined at the Office of the United States Attorney, 219 S. Dearborn St., Fifth Floor, Chicago, IL 60604, and at U.S. EPA Region 5, 77 West Jackson Blvd., Chicago, IL 60604-3590. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-7420 Filed 4-1-10; 8:45 am]

BILLING CODE 4410-15-P